DEPARTMENT OF STATE

[Public Notice: 9371]

Renewal of the Charter of the Advisory Committee on International Postal and Delivery Services

AGENCY: Department of State.

ACTION: Notice.

SUMMARY: This notice announces the renewal of the charter or the Advisory Committee on International Postal and Delivery Services (IPoDS). In accordance with the provisions of the 2006 Postal Accountability and Enhancement Act (Pub. L. 109-435) and the Federal Advisory Committee Act (Pub. L. 92-463), the Committee's charter has been renewed for an additional two years.

The IPoDS Committee comprises members representing mailers, private sector delivery companies, stakeholders in international delivery services or others who are directly affected by international postal operations. In addition, the Committee includes Federal members representing the Department of Commerce, the Department of Homeland Security, the Office of the United States Trade Representative, the Postal Regulatory Commission, and the United States Postal Service. Members are appointed by the Assistant Secretary of State for International Organization Affairs. The Committee provides advice to the Department of State with respect to U.S. foreign policy related to international postal services and other international delivery services and U.S. policy toward the Universal Postal Union and other international postal and delivery organizations.

For further information, please contact Ms. Shereece Robinson of the Office of Specialized and Technical Agencies (IO/STA), Bureau of International Organization Affairs, U.S. Department of State, at tel. (202) 663-2649, by email at RobinsonSA2@state.gov or by mail at IO/STA, L409 (SA1); Department of State; 2401 E Street NW.; Washington DC 20037.

Dated: October 23, 2015.
Joseph P. Murphy,
Designated Federal Officer, Advisory Committee on International Postal and Delivery Services, Office of Specialized and Technical Agencies, Bureau of International Organization Affairs, Department of State.

[FR Doc. 2015-30901 Filed 12-7-15; 8:45 am]

BILLING CODE 4710-19-P